DEPARTMENT OF COMMERCE

International Trade Administration

[A-570-601]

Tapered Roller Bearings and Parts Thereof, Finished and Unfinished, From the People's Republic of China: Notice of Final Results of Changed Circumstances Review

AGENCY: Enforcement and Compliance, International Trade Administration, Commerce.

SUMMARY: On November 21, 2014, the Department of Commerce (the Department) published the preliminary results of the changed circumstances review (CCR) of the antidumping duty (AD) order on tapered roller bearings and parts thereof, finished and unfinished (TRBs), from the People's Republic of China (PRC).¹ We gave interested parties an opportunity to comment on the Preliminary Results. For these final results, as in the Preliminary Results, we determine that: (1) Shanghai General Bearing Co., Ltd. (SGBC/SKF) is the successor-in-interest to a company of the same name (hereinafter known as SGBC), a producer/exporter of TRBs revoked from the AD order on TRBs from the PRC in 1997; ² and (2) merchandise from SGBC/SKF is not subject to the AD order on TRBs from the PRC.

¹ See Tapered Roller Bearings and Parts Thereof, Finished and Unfinished, From the People's Republic of China: Notice of Preliminary Results of Changed Circumstances Review and Extension of the Final Results, 79 FR 69424 (November 21, 2014) (Preliminary Results).

² See Tapered Roller Bearings and Parts Thereof, Finished and Unfinished, From the People's Republic of China: Final Results of Antidumping Duty Administrative Review and Revocation in Part of Antidumping Duty Order, 62 FR 6189 (February 11, 1997) (SGBC Revocation).

DATES: Effective: August 1, 2012.

FOR FURTHER INFORMATION CONTACT: Stephen Banea, Enforcement and Compliance, International Trade Administration, U.S. Department of Commerce, 14th Street and Constitution Avenue NW., Washington, DC 20230; telephone: (202) 482-0656.

SUPPLEMENTARY INFORMATION:

Background

On June 15, 1987, the Department published in the Federal Register the AD order on TRBs from the PRC.³ On February 11, 1997, the Department revoked the order on TRBs from the PRC with respect to merchandise produced and exported by SGBC, effective as of June 1, 1994.⁴

³ See Antidumping Duty Order: Tapered Roller Bearings and Parts Thereof, Finished and Unfinished, From the People's Republic of China, 52 FR 22667 (June 15, 1987).

⁴ See SGBC Revocation, 62 FR at 6214.

Effective August 1, 2012, the majority shareholder of SGBC merged with AB SKF (SKF) and, as a result of the merger, SGBC became part of the SKF Group. On February 13, 2013, SGBC/SKF requested that the Department conduct a CCR pursuant to 19 CFR 351.221(c)(3)(ii) to determine whether it is the successor-in-interest to SGBC as it existed prior to its affiliation with SKF, and on June 28, 2013, the Department published in the Federal Register a notice initiating a CCR to address this question.⁵

⁵ See Tapered Roller Bearings and Parts Thereof, Finished and Unfinished, From the People's Republic of China: Initiation of Antidumping Duty Changed Circumstances Review, 78 FR 38943 (June 28, 2013).

On November 21, 2014, the Department published in the Federal Register the notice of preliminary results of this CCR.⁶ In the Preliminary Results, we provided all interested parties with an opportunity to comment and request a public hearing regarding our preliminary finding that SGBC/SKF is the successor-in-interest to SGBC; at that time, we also extended the final results in this CCR.⁷

⁶ See Preliminary Results, 79 FR at 69424-25.

⁷ Id. at 69425.

On December 12, 2014, SGBC/SKF and Stemco LP (Stemco), a U.S. manufacturer and importer of TRBs from the PRC, submitted case briefs. On December 19, 2014, SGBC/SKF submitted a rebuttal brief. On January 16, 2015, the Department held a public hearing at the request of Stemco. On January 29, 2015, we extended the final results in this CCR to no later than April 1, 2015.⁸

⁸ See letter from Irene Darzenta Tzafolias, Acting Director, Office II, AD/CVD Operations, to SGBC/SKF, dated January 29, 2015.

Scope of the Order

Imports covered by the order are shipments of tapered roller bearings and parts thereof, finished and unfinished, from the People's Republic of China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.0050, 8482.99.15, 8482.99.45, 8483.20.40, 8483.20.80, 8483.30.80, 8483.90.20, 8483.90.30, 8483.90.80, 8708.70.6060, 8708.99.2300, 8708.99.4850, 8708.99.6890, 8708.99.8115 and, 8708.99.8180. Although the HTSUS item numbers are provided for convenience and customs purposes, the written description of the scope of the order is dispositive.

Analysis of Comments Received

All issues raised in the case and rebuttal briefs by parties to this CCR are addressed in the Issues and Decision Memorandum,⁹ which is hereby adopted by this notice. A list of the issues which parties have raised, and to which we have responded in the Issues and Decision Memorandum, is attached to this notice as Appendix I.

⁹ See the memorandum from Gary Taverman, Associate Deputy Assistant Secretary for Antidumping and Countervailing Duty Operations, to Paul Piquado, Assistant Secretary for Enforcement and Compliance entitled, “Issues and Decision Memorandum for the Final Results of Antidumping Duty Changed Circumstances Review Requested by Shanghai General Bearing Co, Ltd.: Tapered Roller Bearings and Parts Thereof, Finished and Unfinished, from the People's Republic of China,” dated concurrently with this notice (Issues and Decision Memorandum).

The Issues and Decision Memorandum is a public document and is on file electronically via Enforcement and Compliance's AD and Countervailing Duty (CVD) Centralized Electronic Service System (ACCESS).¹⁰ ACCESS is available to registered users at http://access.trade.gov and to all parties in the Central Records Unit (CRU), Room 7046 of the main Department of Commerce building. In addition, parties can obtain a complete version of the Issues and Decision Memorandum on the internet at http://trade.gov/enforcement/frn/index.html. The signed Issues and Decision Memorandum and the electronic version of the Issues and Decision Memorandum are identical in content.

¹⁰ On November 24, 2014, Enforcement and Compliance changed the name of the Enforcement and Compliance's AD and CVD Centralized Electronic Service System (IA ACCESS) to AD and CVD Centralized Electronic Service System (ACCESS). The Web site location was changed from http://iaaccess.trade.gov to http://access.trade.gov. The final rule changing the references in the Department's regulations can be found at 79 FR 69046 (November 20, 2014).

Final Results of Changed Circumstances Review

In the Preliminary Results, we found SGBC/SKF to be the successor-in-interest to SGBC because the information on the record indicated that SGBC/SKF continued to operate as essentially the same entity that was effectively revoked from the order as of June 1, 1994. In reaching this determination, we considered changes in SGBC's operations covering the period from revocation through August 1, 2012, with respect to several factors, including the following: (1) Management; (2) production facilities; (3) supplier relationships; and (4) customer base. After analyzing the comments received, and for the reasons stated in the Preliminary Results and discussed further in the Issues and Decision Memorandum, we continue to find that SGBC/SKF is the successor-in-interest to SGBC. As a result of this determination, we find that SGBC/SKF is entitled to SGBC's revoked status. Consequently, the Department will apply this determination retroactively and will instruct U.S. Customs and Border Protection to liquidate, without regard to antidumping duties, all unliquidated entries entered, or withdrawn from warehouse on or after August 1, 2012, the date of SGBC/SKF's accession into the SKF Group, in accordance with past practice.¹¹

¹¹ See, e.g., Stainless Steel Wire Rod from Italy: Notice of Final Results of Changed Circumstances Antidumping Duty Review, 71 FR 24643 (April 26, 2006) (where the Department applied the changed circumstances determination retroactively because the company in question was excluded from the AD order).

Notification

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with sections 751(b)(1) and 777(i) of the Tariff Act of 1930, as amended, and 19 CFR 351.216 and 351.221(c)(3).

Dated: April 1, 2015.
Paul Piquado,
Assistant Secretary for Enforcement and Compliance.

Appendix I

List of Topics Discussed in the Issues and Decision Memorandum

Summary

Background

Scope of the Order

Discussion of the Issues

1. The Time Period Examined

2. Whether the Department Should Distinguish Between Incremental vs. Rapid Changes

3. Changes to the Four Factors Considered in Successor-in-Interest Determinations Recommendation

[FR Doc. 2015-08222 Filed 4-8-15; 8:45 am]

BILLING CODE 3510-DS-P